DEPARTMENT OF DEFENSE

Department of the Army; Corps of Engineers

Revised Notice of Intent To Prepare a Draft Environmental Impact Statement for the Bogue Banks Coastal Storm Damage Reduction Feasibility Study, in Carteret County, NC

AGENCY: Department of the Army, U.S. Army Corps of Engineers, DoD.

ACTION: Notice of Intent.

SUMMARY: The U.S. Army Corps of Engineers (USACE), Wilmington District (Corps) intends to prepare a Draft Environmental Impact Statement (DEIS) to evaluate the impacts of the proposed alternatives to reduce coastal storm damages from beach erosion on Bogue Banks North Carolina. The Bogue Banks study area is located on the coast of North Carolina, about 80 miles north of Wilmington, North Carolina. This area is at risk from hurricanes and winter storms, which regularly erode the shoreline, causing damage to structures and environmental resources. The proposed Bogue Banks Coastal Storm Damage Reduction (CSDR) Feasibility Study will evaluate several alternatives. These alternatives may include restoration of berms and dunes, with stabilizing vegetation on dunes, removal and/or relocation of structures, and the no-action alternative. The potential project area may be up to 24 miles in length, from Beaufort to Bogue Inlets. The potential benefits from the proposed project include storm damage reduction to structures and their related infrastructure (i.e., roads, utility lines, etc.), improved aesthetic and recreation opportunities, and improved habitat conditions for endangered species.

The DEIS is being prepared in accordance with the requirements of the National Environmental Policy Act (NEPA) of 1969, as amended, and will address the relationship of the proposed action to other applicable Federal and State Laws and Executive Orders.

DATES: The earliest the DEIS will be available for public review would be October 2013.

FOR FURTHER INFORMATION CONTACT: Questions about the proposed action and DEIS can be answered by Mr. Eric Gasch, Environmental Resources Section; U.S. Army Engineer District, Wilmington; 69 Darlington Avenue, Wilmington, North Carolina 28403; telephone: (910) 251-4553; email: eric.k.gasch@usace.army.mil.

SUPPLEMENTARY INFORMATION: 1. Previous Notice of Intent (NOI) publication. This notice is a revision of a previously published notice in the Federal Register on February 8, 2002, (67 FR 6015) to prepare a DEIS and is prepared in response to the significant amount of time which has passed since that NOI.

2. Authority. Studies are being conducted pursuant to a congressional resolution concerning Bogue Banks. Primary study emphasis is directed toward CSDR measures for the beaches of Bogue Banks. The authorizing resolution states:

Resolution Adopted July 23, 1998 by the United States House of Representatives:

Resolved by the Committee on Transportation and Infrastructure of the United States House of Representatives, that the Secretary of the Army is requested to review the report of the Chief of Engineers dated November 27, 1984, on Bogue Banks and Bogue Inlet, North Carolina, and other pertinent reports, to determine whether any modifications of the recommendations contained therein are advisable at the present time in the interest of shore protection and related purposes for Bogue Banks, North Carolina.

3. Significant Issues. Significant environmental resources to be addressed in the DEIS include, but are not limited to: (1) Endangered and threatened species; (2) Marine and estuarine resources; (3) Upland beach and dune resources; (4) Fish and wildlife and their habitats; (5) Essential Fish Habitat (EFH) and Cape Fear Sandy Shoals; (6) Water and air quality; (7) Socioeconomic resources; (8) Cultural resources; and (9) Hazardous Toxic Radioactive Waste.

4. Scoping. All private parties and Federal, State, and local agencies having an interest in the study are hereby notified of the study and are invited to comment at this time. A scoping letter requesting input to the study was sent to all known interested parties on December 29, 1999. Considering the duration of time that had past since the initial scoping effort, a second scoping letter will be prepared.

Based on project comments received to date, a scoping meeting will not be needed. However, if significant comments are received in response to this updated NOI and Scoping letter, a scoping meeting will be scheduled. All comments received as a result of this NOI and the scoping letter will be considered in the preparation of the DEIS.

5. Alternatives. The alternatives for this project will include the no action, and others currently being evaluated.

6. Cooperating Agencies. The Corps is the lead agency for this project. Cooperating agency status has been initiated with the Bureau of Ocean Energy Management since the offshore limits of the proposed borrow area extend into the Outer Continental Shelf.

Steven A. Baker,
Colonel, U.S. Army District Commander.

[FR Doc. 2012-7039 Filed 3-22-12; 8:45 am]

BILLING CODE 3720-58-P